Title 3—

The President

Proclamation 8357 of April 3, 2009

Education and Sharing Day, U.S.A., 2009

By the President of the United States of America

A Proclamation

The education we provide our children must prepare them to succeed in a global economy and to contribute to their communities. Commemorating Education and Sharing Day, U.S.A., we underscore our commitment to a competitive and complete education.

The professional demands of today’s workplace require a renewed commitment to education. Our youngest children need a strong early foundation. Standards must be raised, curricula must be enhanced, and teachers must be supported. Families, communities, and educators must collaborate to ensure that students are working hard and receiving the best instruction possible.

Yet knowledge alone will not bring the future our children deserve. Our schools and community institutions must also help each child develop a moral compass. Education must blend basic American values such as honesty, personal responsibility, and service. These indispensable elements will not only help children succeed in challenging work environments, they will also help our youth engage in and contribute to their communities.

Few have better understood or more successfully promoted these ideas than Rabbi Menachem Mendel Schneerson, the Lubavitcher Rebbe, who emphasized the importance of education and good character. Through the establishment of educational and social service institutions across the country and the world, Rabbi Schneerson sought to empower young people and inspire individuals of all ages. On this day, we raise his call anew.

NOW, THEREFORE, I, BARACK OBAMA, President of the United States of America, by virtue of the authority vested in me by the Constitution and the laws of the United States, do hereby proclaim April 5, 2009, as “Education and Sharing Day, U.S.A., 2009.” I call upon all the people of the United States to look to the future with a renewed sense of civic engagement and common purpose.

IN WITNESS WHEREOF, I have hereunto set my hand this third day of April, in the year of our Lord two thousand nine, and of the Independence of the United States of America the two hundred and thirty-third.

[FR Doc. E9-8137

Filed 4-7-09; 8:45 am]

Billing code 3195-W9-P